DEPARTMENT OF TRANSPORTATION

Surface Transportation Board

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to section 10(a)(2) of the Federal Advisory Committee Act, Public Law 92-463, as amended (5 U.S.C., App. 2).

DATES: The meeting will be held on Tuesday, September 13, 2011, beginning at 1 p.m. (CDT) and is expected to conclude at 5 p.m. (CDT).

ADDRESSES: The meeting will be held at the Intercontinental Hotel, Kansas City, 401 Ward Parkway, Kansas City, MO 64112. Phone 816-756-1500. Fax 816-756-1635.

FOR FURTHER INFORMATION CONTACT: Thomas Brugman at (202) 245-0281. [Assistance for the hearing impaired is available through the Federal Information Relay Service (FIRS) at: (800) 877-8339].

SUPPLEMENTARY INFORMATION: The NGCC arose from a proceeding instituted by the Surface Transportation Board's predecessor agency, the Interstate Commerce Commission (ICC), in National Grain Car Supply—Conference of Interested Parties, EP 519. The NGCC was formed as a working group to facilitate private-sector solutions and recommendations to the ICC (and now the Board) on matters affecting grain transportation.

The general purpose of this meeting is to discuss rail carrier preparedness to transport the 2011 fall grain harvest. The meeting will be opened by Board Chairman Daniel R. Elliott III and Vice-Chairman Ann D. Begeman (who, together with Tim McNulty, Director of Marketing at CSX, serves as Co-Chairman for the NGCC). Agenda items will then include: reports by rail carriers and shippers on grain-service related issues; a report by rail car manufacturers and lessors on current and future availability of various grain-car types; a presentation and discussion regarding the history and past efforts of the National Grain Car Council; discussion of the NGCC's 1998 “Statement of Principles” concerning the availability of public information regarding the status, availability and performance of the grain car fleet; a presentation and explanation, by NGCC's White Paper subcommittee, of the White Paper concerning the effect on the U.S. grain market of various aspects of the grain-car supply; an open forum on the issues of the 2011 weather patterns and their effect on the supply/demand of equipment and the possible impact of export market expectations on the U.S. grain car supply; and a discussion about upcoming NGCC elections and the need for NGCC members to play a more active role in the NGCC. The full agenda and copies of the White Paper, the 1998 Statement of Principles, and related documents, are posted on the Board's Web site at http://www.stb.dot.gov/stb/rail/graincar_council.html.

The meeting, which is open to the public, will be conducted pursuant to the NGCC's charter and Board procedures. Further communications about this meeting may also be announced through the Board's Web site.

This action will not significantly affect either the quality of the human environment or the conservation of energy resources.

Dated: August 23, 2011.
By the Board, Joseph H. Dettmar, Acting Director, Office of Proceedings.
Andrea Pope-Matheson,
Clearance Clerk.

[FR Doc. 2011-21943 Filed 8-26-11; 8:45 am]

BILLING CODE 4915-01-P